DEPARTMENT OF ENERGY

Federal Energy Regulatory Commission

[Project No. 2725-071]

Oglethorpe Power Corporation, Georgia Power Company, Rocky Mountain Leasing Corporation, Fleet National Bank, SunTrust Bank, Atlanta, U.S. Bank National Association; Notice of Application for Partial Transfer of License and Soliciting Comments and Motions To Intervene

On March 10, 2014, Oglethorpe Power Corporation (OPC), Georgia Power Company (GPC), Rocky Mountain Leasing Corporation (RMLC), Fleet National Bank (not in its individual capacity but solely as the original Owner Trustee) (FNB), SunTrust Bank, Atlanta (not in its individual capacity but solely as the original Co-Owner Trustee) (SunTrust) (transferors and co-licensees), and U.S. Bank National Association (not in its individual capacity but solely as the successor Owner Trustee) (USBNA) (transferee) filed an application for a partial transfer of license of the Rocky Mountain Project located on Heath Creek in Floyd County, Georgia.

The transferors and transferee seek Commission approval to a partial transfer of the license for the Rocky Mountain Project from OPC, GPC, RMLC, FNB, and SunTrust transferors, as co-licensees to OPC, GPC, RMLC, and USBNA transferee, as co-licensees.

Applicant Contacts: For Transferors (Oglethorpe Power Corporation and Rocky Mountain Leasing Corporation): Mr. John H. Clements, Van Ness Feldman, P.C., 1050 Thomas Jefferson Street NW., Washington, DC 20007, Phone (202) 298-1933. For Transferor (Georgia Power Company): Mr. David M. Moore, Balch & Bingham, LLP, 30 Ivan Allen Jr., Blvd., Suite 700, Phone (404) 962-3530. For Transferee (U.S. Bank National Association): Mr. William G. Rock, Shipman & Goodwin LLP, One Constitution Plaza, Hartford, CT 06103, Phone (860) 251-5121.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2725-071.

Dated: April 2, 2014.
Kimberly D. Bose,
Secretary.

[FR Doc. 2014-08040 Filed 4-9-14; 8:45 am]

BILLING CODE 6717-01-P